DEPARTMENT OF ENERGY

Federal Energy Regulatory Commission

Combined Notice of Filings

Take notice that the Commission has received the following Natural Gas Pipeline Rate and Refund Report filings:

Filings Instituting Proceedings

Docket Numbers: PR21-63-000.

Applicants: Kinder Morgan Keystone Gas Storage LLC.

Description: Submits tariff filing per 284.123(b),(e)/: Informational Filing Concerning MBR Authority.

Filed Date: 9/3/2021.

Accession Number: 20210903-5173.

Comments/Protests Due: 5 p.m. ET 9/24/21.

Docket Numbers: PR21-64-000.

Applicants: Banquete Hub LLC.

Description: Submits tariff filing per 284.123(b),(e)/: Informational Filing Concerning MBR Authority.

Filed Date: 9/3/2021.

Accession Number: 20210903-5176.

Comments/Protests Due: 5 p.m. ET 9/24/21.

Docket Numbers: RP21-1102-000.

Applicants: Millennium Pipeline Company, LLC.

Description: § 4(d) Rate Filing: Negotiated Rate Service Agmt—SWN to be effective 11/1/2021.

Filed Date: 9/7/21.

Accession Number: 20210907-5071.

Comment Date: 5 p.m. ET 9/20/21.

Docket Numbers: RP21-1103-000.

Applicants: DTM Birdsboro Pipeline, LLC.

Description: § 4(d) Rate Filing: Name Change—FERC Gas Tariff Original Volume No. 1 to be effective 9/8/2021.

Filed Date: 9/7/21.

Accession Number: 20210907-5139.

Comment Date: 5 p.m. ET 9/20/21.

Docket Numbers: RP21-1104-000.

Applicants: Rover Pipeline LLC.

Description: § 4(d) Rate Filing: Summary of Negotiated Rate Capacity Release Agreements on 9-7-21 to be effective 9/1/2021.

Filed Date: 9/8/21.

Accession Number: 20210908-5021.

Comment Date: 5 p.m. ET 9/20/21.

Docket Numbers: RP21-1105-000.

Applicants: Panhandle Eastern Pipe Line Company, LP.

Description: § 4(d) Rate Filing: Update GT&C Section 12 to be effective 11/1/2021.

Filed Date: 9/8/21.

Accession Number: 20210908-5023.

Comment Date: 5 p.m. ET 9/20/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2021.
Debbie-Anne A. Reese,
Deputy Secretary.

[FR Doc. 2021-19770 Filed 9-13-21; 8:45 am]

BILLING CODE 6717-01-P